FEDERAL RETIREMENT THRIFT INVESTMENT BOARD

Sunshine Act Meetings

TIME AND DATE: 9:00 a.m. (Eastern Time) October 22, 2012.

PLACE: 10th Floor Training Room, 77 K Street NE., Washington, DC 20002.

STATUS: All parts will be open to the public.

MATTERS TO BE CONSIDERED:

1. Approval of the Minutes of the September 24, 2012 Board Member Meeting

2. Thrift Savings Plan Activity Report by the Executive Director

a. Monthly Participant Activity Report

b. Quarterly Investment Performance Report

c. Legislative Report

3. Quarterly Vendor Financials

4. Mid-year Financial Audit

5. Resource Management Review

6. Office of the General Counsel Overview

CONTACT PERSON FOR MORE INFORMATION: Kimberly Weaver, Director, Office of External Affairs, (202) 942-1640.

Dated: October 12, 2012.
James B. Petrick,
Secretary, Federal Retirement Thrift Investment Board.

[FR Doc. 2012-25560 Filed 10-12-12; 4:15 pm]

BILLING CODE 6760-01-P